DEPARTMENT OF ENERGY

Federal Energy Regulatory Commission

[Docket No. RP02-352-000]

Dominion Transmission, Inc.; Notice of Proposed Changes in FERC Gas Tariff

June 6, 2002.

Take notice that on May 31, 2002, Dominion Transmission Inc. (DTI), tendered for filing as part of its FERC Gas Tariff, Third Revised Volume No. 1, the following revised tariff sheets, with an effective date of June 1, 2002:

Third Revised Sheet No. 254

First Revised Sheet No. 255

Second Revised Sheet No. 256

First Revised Sheet No. 603

First Revised Sheet No. 654

First Revised Sheet No. 683

Third Revised Sheet No. 1001

Second Revised Sheet No. 1006

Second Revised Sheet No. 1007

First Revised Sheet No. 1031

First Revised Sheet No. 1052

First Revised Sheet No. 1053

Third Revised Sheet No. 1057

Third Revised Sheet No. 1143

First Revised Sheet No. 1143A

Second Revised Sheet No. 1173

Third Revised Sheet No. 1185

DIT states that the purpose of the filing is to update the tariff sheets currently on file with the Commission to make certain administrative and NAESB-related changes and correct typographical errors. The administrative changes made by DTI include an update of the addressee for communications concerning the tariff , a correction of the numbering of the paragraphs in Section 8 of Rate Schedule IT, and elimination of Section 11 in Rate Schedule IT because it is duplicative with Section 9. The NAESB-related changes include changing the references in the tariff from GISB to NAESB and adding references to Central Time in addition to Eastern Time. Typographical errors were corrected on three tariff sheets.

DTI states that copies of its letter of transmittal and enclosures have been served upon DTI's customers and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14890 Filed 6-12-02; 8:45 am]

BILLING CODE 6717-01-P